FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
March 1, 2015 thru September 30, 2015
03/03/2015
20150580 | G | FMR LLC; The Guardian Life Insurance Company of America; FMR LLC.
03/06/2015
20150597 | G | Accenture plc; Robert E LaRose Revocable Trust; Accenture plc.
20150614 | G | Hitachi Ltd.; Pentaho Corporation; Hitachi Ltd.
20150628 | G | Healthstream, Inc.; Dan Littrell; Healthstream, Inc.
20150637 | G | Elliott International Limited; Informatica Corporation; Elliott International Limited.
20150638 | G | 3M Company; Ivera Medical Corporation; 3M Company.
20150639 | G | Elliott Associates, L.P.; Informatica Corporation; Elliott Associates, L.P.
20150648 | G | Fir Tree Value Master Fund, L.P.; CDK Global, Inc.; Fir Tree Value Master Fund, L.P.
20150651 | G | Harbour Group Investments VI, L.P.; Audax Private Equity Fund III, L.P.; Harbour Group Investments VI, L.P.
20150655 | G | Berwind Corporation; Windjammer Senior Equity Fund III, L.P.; Berwind Corporation.
03/09/2015
20150117 | G | Ingredion Incorporated; Penford Corporation; Ingredion Incorporated.
20150664 | G | Rite Aid Corporation; TPG VI DE AIV II, L.P.; Rite Aid Corporation.
20150671 | G | WPP plc; comScore, Inc.; WPP plc.
20150675 | G | WPP plc; comScore, Inc.; WPP plc.
20150685 | G | Heinz Hermann Thiele; Vossloh AG; Heinz Hermann Thiele.
03/11/2015
20150656 | G | LLR Equity Partners IV, L.P.; Generation Capital Partners II LP; LLR Equity Partners IV, L.P.
20150676 | G | TPG Magnate Holdings, L.P.; Mossi & Ghisolfi S.p.A.; TPG Magnate Holdings, L.P.
03/12/2015
20150594 | G | Providence Equity Partners VI L.P.; Schoolwires, Inc.; Providence Equity Partners VI L.P.
20150608 | G | Kevin A. Plank; MyFitnessPal, Inc.; Kevin A. Plank.
20150649 | G | TA XI L.P.; Michael Miola; TA XI L.P.
20150654 | G | The Pennsylvania State University; Catholic Health Initiatives; The Pennsylvania State University.
20150682 | G | Arrow Electronics, Inc.; immixGroup, Inc.; Arrow Electronics, Inc.
03/13/2015
20150684 | G | Valeant Pharmaceuticals International, Inc.; Salix Pharmaceuticals, Ltd.; Valeant Pharmaceuticals International, Inc.
20150697 | G | BDT Capital Partners Fund I AIV, L.P.; Marquette Transportation Company Holding; BDT Capital Partners Fund I AIV, L.P.
20150702 | G | Michael J. Cantanucci; Wiesenthal Holding GmbH; Michael J. Cantanucci.
20150704 | G | JLL Patheon Co-Investment Fund, L.P. (Cayman); IRIX Pharmaceuticals, Inc.; JLL Patheon Co-Investment Fund, L.P. (Cayman).
20150707 | G | Todd L. Boehly; Eldridge Investors, LLC; Todd L. Boehly.
03/16/2015
20150647 | G | New Media Investment Group Inc.; SF Holding Corp.; New Media Investment Group Inc.
20150712 | G | Berkshire Hathaway Inc.; The Procter & Gamble Company; Berkshire Hathaway Inc.
20150714 | G | Stifel Financial Corp.; Sterne Agee Group, Inc.; Stifel Financial Corp.
03/17/2015
20150674 | G | Hanesbrands Inc.; Merit Mezzanine Fund V, L.P.; Hanesbrands Inc.
20150680 | G | Merck & Co., Inc.; NGM Biopharmaceuticals, Inc.; Merck & Co., Inc.
20150708 | G | Pacolet Milliken Enterprises, Inc.; Metalmark Capital Partners, L.P.; Pacolet Milliken Enterprises, Inc.
03/18/2015
20150657 | G | JANA Offshore Partners, Ltd.; Computer Sciences Corporation; JANA Offshore Partners, Ltd.
20150658 | G | JANA Nirvana Offshore Fund, Ltd.; Computer Sciences Corporation; JANA Nirvana Offshore Fund, Ltd.
20150699 | G | Deutsche Telekom AG; Verizon Communications Inc.; Deutsche Telekom AG.
20150700 | G | Verizon Communications Inc.; Deutsche Telekom AG; Verizon Communications Inc.
20150710 | G | Philip and Jocelyn Hagerman; BioRx, LLC; Philip and Jocelyn Hagerman.
20150715 | G | Catamaran Corporation; Brazos Equity Fund II, L.P.; Catamaran Corporation.
20150716 | G | Warburg Pincus Private Equity X O&G, L.P.; Laredo Petroleum, Inc.; Warburg Pincus Private Equity X O&G, L.P.
03/19/2015
20150006 | G | Waste Management Inc.; Deffenbaugh Disposal, Inc.; Waste Management Inc.
20150636 | G | Hospira, Inc.; Pfenex Inc.; Hospira, Inc.
20150662 | G | Lions Gate Entertainment Corp.; Starz; Lions Gate Entertainment Corp.
20150663 | G | John C. Malone; Lions Gate Entertainment Corp.; John C. Malone.
20150709 | G | Irving Place Capital Partners III, L.P.; Wicks Capital Partners IV, L.P.; Irving Place Capital Partners III, L.P.
03/20/2015
20150701 | G | Group 1 Automotive, Inc.; Irvin David Irrevocable Trust; Group 1 Automotive, Inc.
20150718 | G | Visa Inc.; TrialPay, Inc.; Visa Inc.
20150719 | G | Genstar Capital Partners VI, L.P.; Snow Phipps II, L.P.; Genstar Capital Partners VI, L.P.
20150720 | G | Hebei Iron & Steel Group, Co. Ltd.; Bruno Bolfo; Hebei Iron & Steel Group, Co. Ltd.
20150723 | G | Sudesh Arora; Affinity Acquisition Holdings Corp.; Sudesh Arora.
20150725 | G | Sola Ltd, Charitable Trust; TerreStar Corporation; Sola Ltd, Charitable Trust.
20150744 | G | Pershing Square Holdings, Ltd.; Valeant Pharmaceuticals International, Inc.; Pershing Square Holdings, Ltd.
20150745 | G | Pershing Square, L.P.; Valeant Pharmaceuticals International, Inc.; Pershing Square, L.P.
20150746 | G | Pershing Square International, Ltd.; Valeant Pharmaceuticals International, Inc.; Pershing Square International, Ltd.
03/23/2015
20150694 | G | AXIS Capital Holdings Limited; PartnerRe Ltd.; AXIS Capital Holdings Limited.
20150695 | G | PartnerRe Ltd.; AXIS Capital Holdings Limited; PartnerRe Ltd.
20150703 | G | Science Applications International Corporation; Green Equity Investors V, L.P.; Science Applications International Corporation.
20150729 | G | Rakuten, Inc.; Lyft, Inc.; Rakuten, Inc.
03/24/2015
20150660 | G | Greenhill & Co., Inc.; Cogent Partners, LP; Greenhill & Co., Inc.
20150693 | G | Castlerigg International Limited; Brookdale Senior Living Inc.; Castlerigg International Limited.
20150735 | G | Mitel Networks Corporation; Mavenir Systems, Inc.; Mitel Networks Corporation.
03/25/2015
20150705 | G | Senator Global Opportunity Offshore Fund Ltd.; Starwood Hotels & Resorts Worldwide, Inc.; Senator Global Opportunity Offshore Fund Ltd.
20150711 | G | Trident VI, L.P.; Black Mountain Systems, LLC; Trident VI, L.P.
20150722 | G | Concordia Healthcare Corp.; Cerberus Institutional Partners, L.P.; Concordia Healthcare Corp.
20150733 | G | Ginsoma Family C.V.; Michael P. Maraist; Ginsoma Family C.V.
20150740 | G | Recro Pharma, Inc.; Alkermes Public Limited Company; Recro Pharma, Inc.
20150751 | G | Chier North Cliff Voting, LLC; Northern Frac Proppants II, LLC; Chier North Cliff Voting, LLC.
20150756 | G | Hess North Cliff Voting, LLC; Northern Frac Proppants II, LLC; Hess North Cliff Voting, LLC.
03/26/2015
20150678 | G | GTT Communications, Inc.; Platinum Equity Capital Partners II, L.P.; GTT Communications, Inc.
03/27/2015
20150667 | G | Third Point Reinsurance Ltd.; FANUC Corporation; Third Point Reinsurance Ltd.
20150749 | G | Redgate Partners, LLC; Danny R. Cuzick and Donna J. Cuzick; Redgate Partners, LLC.
20150755 | G | Standard General Offshore Fund Ltd.; RadioShack Corporation; Standard General Offshore Fund Ltd.
20150763 | G | Newco, a to be formed AIV; Bain Capital AM Holding, LLC; Newco, a to be formed AIV.
20150764 | G | Howard Midstream Energy Partners, LLC; Southwestern Energy Company; Howard Midstream Energy Partners, LLC.
20150765 | G | NextEra Energy, Inc.; Carlyle Power Opportunities Capital Partners, L.P.; NextEra Energy, Inc.
20150773 | Y | Bain Capital Fund XI, L.P.; Project Barbour Holdings Corporation; Bain Capital Fund XI, L.P.
03/30/2015
20150727 | G | MAXIMUS, Inc.; Snow Phipps Group AIV, L.P.; MAXIMUS, Inc.
20150769 | G | American Securities Partners VI, L.P.; Green Equity Investors V, L.P.; American Securities Partners VI, L.P.
20150770 | G | A. Schulman, Inc.; HGGC Citadel, LLC; A. Schulman, Inc.
03/31/2015
20150780 | G | Capitol Acquisition Corp. II; Sven-Olof Lindblad; Capitol Acquisition Corp. II.
20150783 | G | IFM Global Infrastructure Fund; Statewide Mobility Partners LLC; IFM Global Infrastructure Fund.
04/02/2015
20150737 | G | Verisk Analytics, Inc.; Hellman & Friedman Capital Partners VII, L.P.; Verisk Analytics, Inc.
20150779 | G | Investor AB; The ROHO Group, Inc.; Investor AB.
20150786 | G | Highland Funds II; TerreStar Corporation; Highland Funds II.
04/06/2015
20150785 | G | Fairfax Financial Holdings Limited; Brit plc; Fairfax Financial Holdings Limited.
20150788 | G | PCCW Limited; Vuclip, Inc.; PCCW Limited.
20150794 | G | LTF Holdings, Inc.; Life Time Fitness, Inc.; LTF Holdings, Inc.
20150801 | G | Levy Acquisition Corp.; Del Taco Holdings, Inc.; Levy Acquisition Corp.
04/07/2015
20150790 | G | Iberdrola, S.A.; UIL Holdings Corporation; Iberdrola, S.A.
20150793 | G | LLR Equity Partners IV, L.P.; Michele Logan; LLR Equity Partners IV, L.P.
20150806 | G | Harvest Partners VI, L.P.; Cressey & Company Fund IV, LP; Harvest Partners VI, L.P.
04/08/2015
20150761 | G | Pernix Therapeutics Holdings, Inc.; Zogenix, Inc.; Pernix Therapeutics Holdings, Inc.
20150784 | G | Alcoa Inc.; RTI International Metals, Inc.; Alcoa Inc.
20150791 | G | Mylan N.V.; Jai Pharma Ltd.; Mylan N.V.
04/09/2015
20150797 | G | ICG Europe Fund V Investor Feeder LP; Private Equity Holdings Fund LP; ICG Europe Fund V Investor Feeder LP.
04/10/2015
20150565 | G | Clean Harbors, Inc.; Nuverra Environmental Solutions, Inc.; Clean Harbors, Inc.
20150758 | G | Sentinel Capital Partners V, L.P.; TZP Capital Partners I, L.P.; Sentinel Capital Partners V, L.P.
20150808 | G | Boulder Valley Credit Union; Premier Members Federal Credit Union; Boulder Valley Credit Union.
20150819 | G | Roark Capital Partners III, LP; Harvest Partners VI, L.P.; Roark Capital Partners III, LP.
20150822 | G | Industrial Growth Partners IV, L.P.; Hang Up Moon, Trustee, Moon Family Trust; Industrial Growth Partners IV, L.P.
20150826 | G | FUJIFILM Holdings Corporation; Cellular Dynamics International, Inc.; FUJIFILM Holdings Corporation.
04/13/2015
20150613 | G | CommScope Holding Company, Inc.; TE Connectivity Ltd.; CommScope Holding Company, Inc.
20150772 | G | Rakuten, Inc.; Insight Venture Partners VI, L.P.; Rakuten, Inc.
20150781 | G | Orange Capital Offshore I, Ltd.; American Capital, Ltd.; Orange Capital Offshore I, Ltd.
20150824 | G | Marlin Equity IV, L.P.; General Dynamics Corporation; Marlin Equity IV, L.P.
20150829 | G | CCP III AIV I, L.P.; Apollo Investment Fund VII, L.P.; CCP III AIV I, L.P.
04/14/2015
20150807 | G | Roark Capital Partners III LP; Charles E. West, Jr.; Roark Capital Partners III LP.
20150823 | G | AIA Energy North America LLC; BAIF CSC AIV L.P.; AIA Energy North America LLC.
20150825 | G | SunEdison, Inc.; Atlantic Power Corporation; SunEdison, Inc.
20150827 | G | Rockland Power Partners II, LP; LS Power Equity Partners, L.P.; Rockland Power Partners II, LP.
04/15/2015
20150609 | G | Genstar Capital Partners VI, L.P.; PHT Corporation; Genstar Capital Partners VI, L.P.
20150838 | G | IHS Inc.; Root Wireless, Inc. dba RootMetrics; IHS Inc.
04/16/2015
20150739 | G | Cardinal Health, Inc.; Johnson & Johnson; Cardinal Health, Inc.
20150759 | G | Simon Bergson; Rodney Brayman; Simon Bergson.
20150760 | G | Jeffrey A. Honickman; Rodney Brayman; Jeffrey A. Honickman.
20150816 | G | Eli Lilly and Company; Hanmi Pharmaceutical Co., Ltd.; Eli Lilly and Company.
04/20/2015
20150814 | G | TowerBrook Investors IV (Onshore), L.P.; JJ Holding Company Limited; TowerBrook Investors IV (Onshore), L.P.
20150839 | G | Platinum Equity Capital Partners III, L.P.; ITOCHU Corporation; Platinum Equity Capital Partners III, L.P.
20150841 | G | Raymond F Schinazi; Cocrystal Pharma, Inc.; Raymond F Schinazi.
20150842 | G | ChemicaInvest Holding B.V.; Royal DSM N.V.; ChemicaInvest Holding B.V.
20150853 | G | UnitedHealth Group Incorporated; UCH Holdco LLC; UnitedHealth Group Incorporated.
20150856 | G | Pattern Energy Group, Inc.; NTR plc; Pattern Energy Group, Inc.
20150857 | G | Berkshire Fund VIII, L.P.; Trilantic Capital Partners IV, LP; Berkshire Fund VIII, L.P.
04/21/2015
20150353 | G | Janet M. Pasha; Horizon Lines, Inc.; Janet M. Pasha.
20150809 | G | Hitachi, Ltd.; Finmeccanica S.p.A.; Hitachi, Ltd.
20150849 | G | Genstar Capital Partners VI, L.P.; Lovell Minnick Equity Partners II LP; Genstar Capital Partners VI, L.P.
04/22/2015
20150111 | G | NetScout Systems, Inc.; Danaher Corporation; NetScout Systems, Inc.
20150811 | G | RBC Bearings Incorporated; Dover Corporation; RBC Bearings Incorporated.
04/23/2015
20150677 | G | MABEG Verein zur Forderung und Beratung der MAHLE Gruppe eV; Delphi Automotive PLC; MABEG. Verein zur Forderung und Beratung der MAHLE Gruppe eV.
20150691 | G | ICCN Holdings, LLC; Marlin Equity II, L.P.; ICCN Holdings, LLC.
04/24/2015
20150855 | G | Reid Garrett Hoffman; Lynda Weinman; Reid Garrett Hoffman.
20150861 | G | ARRIS Group, Inc.; Mr. Leonard Lauder; ARRIS Group, Inc.
20150865 | G | Fortune Brands Home & Security, Inc.; Norcraft Companies, Inc.; Fortune Brands Home & Security, Inc.
20150868 | G | International Flavors & Fragrances Inc.; Henry H. Ottens Manufacturing Co., Inc.; International Flavors & Fragrances Inc.
20150873 | G | SCP TPZ Holding, Inc.; VantagePoint CDP Partners, L.P.; SCP TPZ Holding, Inc.
20150879 | G | Comcast Corporation; Lorne Michaels; Comcast Corporation.
20150884 | G | Brother Industries, Ltd.; Domino Printing Sciences plc; Brother Industries, Ltd.
20150885 | G | New Mountain Partners IV, L.P.; Zep Inc.; New Mountain Partners IV, L.P.
20150891 | G | Precision Castparts Corp.; Jeffrey M. Carlton Trust; Precision Castparts Corp.
20150892 | G | Prophet Equity II LP; Mobile Mini, Inc.; Prophet Equity II LP.
20150895 | G | Shamrock Capital Growth Fund III, L.P.; FanDuel Limited; Shamrock Capital Growth Fund III, L.P.
04/27/2015
20150837 | G | DH Corporation; GTCR Fund X/A LP; DH Corporation.
20150846 | G | The Walt Disney Company; Shane Smith; The Walt Disney Company.
20150847 | G | The Hearst Family Trust; Shane Smith; The Hearst Family Trust.
20150850 | G | KKR North America Fund XI, L.P.; KKR Magellan Aggregator L.P.; KKR North America Fund XI, L.P.
20150851 | G | Elliott International Limited; KKR Magellan Aggregator L.P.; Elliott International Limited.
20150875 | G | OEP Secondary Fund Feeder (Cayman), L.P.; The Wendy's Company; OEP Secondary Fund Feeder (Cayman), L.P.
04/28/2015
20150860 | G | Comcast Corporation; InterMedia Partners VII, L.P.; Comcast Corporation.
20150882 | G | Endurance Specialty Holdings Ltd.; Montpelier Re Holdings Ltd.; Endurance Specialty Holdings Ltd.
20150890 | G | EQT Infrastructure II Limited Partnership; CHS Private Equity V LP; EQT Infrastructure II Limited Partnership.
04/29/2015
20150866 | G | ABRY Partners VIII, L.P.; Spark Acquisition Holdings, Inc.; ABRY Partners VIII, L.P.
20150906 | G | Precision Castparts Corp.; Eric Albert; Precision Castparts Corp.
05/04/2015
20141235 | G | Holcim Ltd.; Lafarge S.A.; Holcim Ltd.
20150898 | G | KKR & Co., L.P.; FanDuel Limited; KKR & Co., L.P.
20150899 | G | ABRY Partners VIII, L.P.; Sentry Data Systems, Inc.; ABRY Partners VIII, L.P.
20150903 | G | Delek US Holdings, Inc.; Alon USA Energy, Inc.; Delek US Holdings, Inc.
20150904 | G | Shraga Biran; Delek US Holdings, Inc.; Shraga Biran.
20150910 | G | WME Entertainment Parent, LLC; Spire Capital Partners II, LP; WME Entertainment Parent, LLC.
20150911 | G | NetSuite Inc.; Joseph Colopy; NetSuite Inc.
20150915 | G | Summit Partners Growth Equity Fund VIII-A, L.P.; Lightyear Fund III, L.P.; Summit Partners Growth Equity Fund VIII-A, L.P.
20150926 | G | Kagome Co., Ltd.; ASG-Omni LLC; Kagome Co., Ltd.
05/05/2015
20150028 | Y | ZF Friedrichshafen AG; TRW Automotive Holdings Corp.; ZF Friedrichshafen AG.
20150880 | G | Elliott Associates, L.P.; DMG MORI SEIKI AKTIENGESELLSCHAFT; Elliott Associates, L.P.
20150881 | G | Elliott International Limited; DMG MORI SEIKI AKTIENGESELLSCHAFT; Elliott International Limited.
20150914 | G | MasterCard Incorporated; APT Software Holdings, Inc.; MasterCard Incorporated.
20150916 | G | Francisco Partners IV, L.P.; Procera Networks, Inc.; Francisco Partners IV, L.P.
05/06/2015
20150871 | G | Ahmet H. Okumus; LifeLock, Inc.; Ahmet H. Okumus.
20150912 | G | Canada Pension Plan Investment Board; Informatica Corporation; Canada Pension Plan Investment Board.
05/08/2015
20150886 | G | The Williams Companies, Inc; Utica East Ohio Midstream LLC; The Williams Companies, Inc.
20150921 | G | Temasek Holdings (Private) Limited; Trustwave Holdings, Inc.; Temasek Holdings (Private) Limited.
20150927 | G | Audax Private Equity Fund IV, L.P.; Pfingsten Partners Fund IV, L.P.; Audax Private Equity Fund IV, L.P.
20150928 | G | The Baring Asia Private Equity Fund IV, L.P.; Sterling International Schools C Corporation; The Baring Asia Private Equity Fund IV, L.P.
20150930 | G | The Dun & Bradstreet Corporation; Great Hill Equity Partners IV, L.P.; The Dun & Bradstreet Corporation.
20150931 | G | Colonial Pipeline Company; Royal Dutch Shell plc; Colonial Pipeline Company.
20150935 | G | HRG Group, Inc.; Avista Capital Partners II, L.P.; HRG Group, Inc.
20150937 | G | Frontier Communications Corporation; Verizon Communications Inc.; Frontier Communications Corporation.
20150938 | G | Antony Ressler; LPF Atlanta LLC; Antony Ressler.
20150939 | G | Arlon Food and Agriculture Partners LP; MSouth Equity Partners, L.P.; Arlon Food and Agriculture Partners LP.
20150941 | G | Lindsay Goldberg III L.P.; Bruce Kovner; Lindsay Goldberg III L.P.
20150948 | G | Sterling Investment Partners III, L.P.; Arvin Scott; Sterling Investment Partners III, L.P.
20150951 | G | Francisco Partners IV, L.P.; Insight Venture Partners VI, L.P.; Francisco Partners IV, L.P.
20150953 | G | Andreessen Horowitz Parallel Fund III, L.P.; YourPeople, Inc. d/b/a Zenefits; Andreessen Horowitz Parallel Fund III, L.P.
20150954 | G | TransDigm Group Incorporated; Odyssey Investment Partners Fund IV, LP; TransDigm Group Incorporated.
20150959 | G | Franz Haniel & Cie GmbH; Go Acquisition B.V.; Franz Haniel & Cie GmbH.
20150960 | G | TPG VII CDS Holdings, LP; Guy Laliberte; TPG VII CDS Holdings, LP.
05/11/2015
20150901 | G | Builders FirstSource, Inc.; FMR LLC; Builders FirstSource, Inc.
20150942 | G | XPO Logistics, Inc.; Norbert Dentressangle; XPO Logistics, Inc.
20150952 | G | American Securities Partners VI, L.P.; ACP Materials LLC; American Securities Partners VI, L.P.
20150965 | G | Vestar Capital Partners VI, L.P.; Woodstream Group, Inc.; Vestar Capital Partners VI, L.P.
20150966 | G | The Resolute Fund III, L.P.; Charles Lipman; The Resolute Fund III, L.P.
05/13/2015
20150934 | G | Eli Lilly and Company; Bristol-Myers Squibb Company; Eli Lilly and Company.
20150950 | G | South Dakota Wheat Growers Association; North Central Farmers Elevator; South Dakota Wheat Growers Association.
20150964 | G | Riverside Capital Appreciation Fund VI, L.P.; DW Healthcare Partners III, L.P.; Riverside Capital Appreciation Fund VI, L.P.
05/14/2015
20150956 | G | Neil D. Cohen; Hewlett-Packard Company; Neil D. Cohen.
05/18/2015
20150940 | G | Robert H. Chapman; Kirk J. Eberl; Robert H. Chapman.
20150963 | G | GSC Target SPV, L.P.; Koninklijke Philips N.V.; GSC Target SPV, L.P.
20150967 | G | Echo Global Logistics, Inc.; Jodi Sue Loeb Family Trust u/a/d October 28, 1999; Echo Global Logistics, Inc.
20150968 | G | Penn National Gaming, Inc.; Onex Partners III Gaming Holdings I LP; Penn National Gaming, Inc.
20150970 | G | Platte River Equity III, L.P.; Mid Oaks Investments LLC; Platte River Equity III, L.P.
20150975 | G | Henry A. Fernandez; MSCI Inc.; Henry A. Fernandez.
20150976 | G | JLL Partners Fund VII, L.P.; Sun Capital Partners V, L.P.; JLL Partners Fund VII, L.P.
20150977 | G | Infosys Limited; Arish Ali and Sudha K. Varadarajan; Infosys Limited.
20150979 | G | XPO Logistics, Inc.; Platinum Equity Capital Partners II; XPO Logistics, Inc.
20150990 | G | Pitney Bowes Inc.; Borderfree, Inc.; Pitney Bowes Inc.
05/19/2015
20150798 | G | Select Medical Corporation; Humana Inc.; Select Medical Corporation.
20150913 | G | Houghton Mifflin Harcourt Company; Scholastic Corporation; Houghton Mifflin Harcourt Company.
20150978 | G | ABRY Partners VIII, L.P.; The Hilb Group, LLC; ABRY Partners VIII, L.P.
20150985 | G | KKR North America Fund XI, L.P.; Robert A. Roberts; KKR North America Fund XI, L.P.
20150988 | G | The Goldman Sachs Group, Inc,.; Sterling Holdings Ultimate Parent, Inc.; The Goldman Sachs Group, Inc,.
05/20/2015
20150917 | G | Raytheon Company; Vista Equity Partners Fund IV, L.P.; Raytheon Company.
20150961 | G | Robert Kraft; Forest Resources LLC; Robert Kraft.
20150962 | G | Schwarz Partners, L.P.; Forest Resources LLC; Schwarz Partners, L.P.
20150971 | G | Josh McFarland; Twitter, Inc.; Josh McFarland.
20150972 | G | Twitter, Inc.; TellApart, Inc.; Twitter, Inc.
05/21/2015
20150659 | G | Harris Corporation; Exelis Inc.; Harris Corporation.
20150973 | G | Dr. Thomas P. Lyons; Fairfax Financial Holdings Limited; Dr. Thomas P. Lyons.
20150974 | G | ABRY Partners VII, L.P.; SeaMobile, Inc.; ABRY Partners VII, L.P.
05/26/2015
20150980 | G | New Enterprise Associates 14, L.P.; MuleSoft, Inc.; New Enterprise Associates 14, L.P.
20150986 | G | KapStone Paper and Packaging Corporation; VP Holdco, Inc.; KapStone Paper and Packaging Corporation.
20150987 | G | Boulevard Acquisition Corp.; The Dow Chemical Company; Boulevard Acquisition Corp.
20150994 | G | Red Ventures Holdco, LP; Pitney Bowes, Inc.; Red Ventures Holdco, LP.
20150995 | G | YOOX S.p.A.; Compagnie Financiere Richemont S.A.; YOOX S.p.A.
20150996 | G | Tencent Holdings Limited; Glu Mobile Inc.; Tencent Holdings Limited.
20150999 | G | Wells Fargo & Company; RPWL Holdings, LLC; Wells Fargo & Company.
20151004 | G | PEG Digital Growth Fund L.P.; AliphCom, Inc.; PEG Digital Growth Fund L.P.
20151005 | G | On Assignment, Inc.; MSCP V CC Holdco LLC; On Assignment, Inc.
20151010 | G | Elliott Associates, L.P.; CDK Global, Inc.; Elliott Associates, L.P.
20151011 | G | Elliott International Limited; CDK Global, Inc.; Elliott International Limited.
20151012 | G | Littlejohn Fund V, L.P.; Apollo Investment Corporation; Littlejohn Fund V, L.P.
20151013 | G | IMCD N.V.; John L. Mastrantoni; IMCD N.V.
20151021 | G | Riverside Capital Appreciation Fund VI, L.P.; Blue Point Capital Partners II, L.P.; Riverside Capital Appreciation Fund VI, L.P.
20151022 | G | Seagull Investment Holdings Limited; OmniVision Technologies, Inc.; Seagull Investment Holdings Limited.
20151024 | G | NGK Spark Plug Co., Ltd.; Graeme R. Hart; NGK Spark Plug Co., Ltd.
05/27/2015
20150983 | G | Cap Gemini S.A.; iGATE Corporation; Cap Gemini S.A.
20150984 | G | Waud Capital Partners QP III, L.P.; Sean P. and Karen L. Flanagan; Waud Capital Partners QP III, L.P.
05/28/2015
20150862 | G | Quintiles Transnational Holdings Inc.; Newco US; Quintiles Transnational Holdings Inc.
20150991 | G | Emerson Electric Co.; Oaktree Power Opportunities Fund III, L.P.; Emerson Electric Co.
05/29/2015
20151027 | G | Alexion Pharmaceuticals, Inc.; Synageva Biopharma Corp.; Alexion Pharmaceuticals, Inc.
20151038 | G | 667, L.P.; Alexion Pharmaceuticals, Inc.; 667, L.P.
20151039 | G | Baker Brothers Life Sciences, L.P.; Alexion Pharmaceuticals, Inc.; Baker Brothers Life Sciences, L.P.
06/01/2015
20151029 | G | Pan-American Life Mutual Holding Company; Mutual Trust Holding Company; Pan-American Life Mutual Holding Company.
20151040 | G | Apollo Investment Fund VIII, L.P.; GTCR Fund IX/A, L.P.; Apollo Investment Fund VIII, L.P.
20151042 | G | Apollo Investment Fund VIII, L.P.; Parthenon Investors III, L.P.; Apollo Investment Fund VIII, L.P.
20151044 | G | ABRY Partners VIII, L.P.; Comvest Investment Partners IV, L.P.; ABRY Partners VIII, L.P.
20151046 | G | Japan Tobacco Inc.; Howard Panes; Japan Tobacco Inc.
20151047 | G | Japan Tobacco Inc.; Eli Alelov; Japan Tobacco Inc.
20151048 | G | Gruden Acquisition, Inc.; Quality Distribution, Inc.; Gruden Acquisition, Inc.
20151050 | G | BCP IV GrafTech Holdings LP; GrafTech International Ltd.; BCP IV GrafTech Holdings LP.
20151052 | G | Carl C. Icahn; Lyft, Inc.; Carl C. Icahn.
20151053 | G | ALLETE, Inc.; Citigroup Inc.; ALLETE, Inc.
20151054 | G | ALLETE, Inc.; The AES Corporation; ALLETE, Inc.
06/02/2015
20150997 | G | Graham Holdings Company; Scott C. Barry; Graham Holdings Company.
20150998 | G | Graham Holdings Company; Christopher Wilcox; Graham Holdings Company.
20151002 | G | TCV VIII, L.P.; OneSource Virtual HR, Inc.; TCV VIII, L.P.
20151055 | G | Fiskars Corporation; WWRD Group Holdings Limited; Fiskars Corporation.
20151059 | G | Temasek Capital (Private) Limited; Ulysses Participation S.a.r.l.; Temasek Capital (Private) Limited.
20151064 | G | Noble Energy Inc.; Rosetta Resources Inc.; Noble Energy Inc.
06/03/2015
20151069 | G | Douglas R. Fabick; Jere C. Fabick; Douglas R. Fabick.
06/04/2015
20151018 | G | AstraZeneca PLC; Innate Pharma S.A.; AstraZeneca PLC.
20151025 | G | Bayer AG; Isis Pharmaceuticals, Inc.; Bayer AG.
20151036 | G | Milestone Acquisition Holding, LLC; US Trailer Holdings, LLC; Milestone Acquisition Holding, LLC.
06/05/2015
20151056 | G | Howard R. Levine; Dollar Tree, Inc.; Howard R. Levine.
20151065 | G | Oceana Group Limited; Gregory F Holt.; Oceana Group Limited.
20151068 | G | Hyundai Steel Co., Ltd.; Hyundai Hysco Co., Ltd.; Hyundai Steel Co., Ltd.
20151071 | G | Verizon Communications Inc.; AOL Inc.; Verizon Communications Inc.
20151080 | G | CA Inc.; Rally Software Development Corp.; CA Inc.
20151083 | G | Tailwind Capital Group; Arnold Fishman; Tailwind Capital Group.
20151089 | G | Kaba Holding AG; Christine Mankel; Kaba Holding AG.
20151090 | G | Kaba Holding AG; Stephanie Brecht-Bergen; Kaba Holding AG.
20151093 | G | McGraw Hill Financial, Inc.; National Automobile Dealers Association; McGraw Hill Financial, Inc.
20151094 | G | Silver Lake Partners IV Cayman (AIV II), L.P.; Avago Technologies Limited; Silver Lake Partners IV Cayman (AIV II), L.P.
20151095 | G | Colfax Corporation; General Electric Company; Colfax Corporation.
20151101 | G | GUO GUANGCHANG; Ironshore Inc.; GUO GUANGCHANG.
06/08/2015
20151081 | G | Apollo Investment Fund VIII, L.P.; CH2M Hill Companies, Ltd.; Apollo Investment Fund VIII, L.P.
06/09/2015
20151070 | G | Royal Bank of Canada; City National Corporation; Royal Bank of Canada.
20151079 | G | Madison Dearborn Capital Partners VI-B, L.P.; Mathew J. Hill; Madison Dearborn Capital Partners VI-B, L.P.
06/11/2015
20151033 | G | CECO Environmental Corp.; PMFG, Inc.; CECO Environmental Corp.
20151049 | G | The Veritas Capital Fund IV, L.P.; Riverside Capital Appreciation Fund V, L.P.; The Veritas Capital Fund IV, L.P.
20151067 | G | Constellation Software Inc.; UnitedHealth Group Incorporated; Constellation Software Inc.
06/12/2015
20151099 | G | Members Cooperative Credit Union; Lake State Credit Union; Members Cooperative Credit Union.
20151100 | G | Thoma Bravo Fund XI, L.P.; Thoma Cressey Fund VIII, L.P.; Thoma Bravo Fund XI, L.P.
20151103 | G | ABRY Partners VII, L.P.; ACP Investment Fund II-A, L.P.; ABRY Partners VII, L.P.
20151104 | G | DTZ Investment Holdings LP; Giovanni Agnelli e C.S. a.p.az.; DTZ Investment Holdings LP.
20151109 | G | ABRY Partners VII, LP; Affirmative Insurance Holdings, Inc.; ABRY Partners VII, LP.
20151110 | G | VCSA Holding Corp.; Dubai Aerospace Enterprise (DAE) Ltd.; VCSA Holding Corp.
20151111 | G | Andrade Gutierrez S.A.; Thomas P. Dennis, Jr.; Andrade Gutierrez S.A.
20151113 | G | Charlesbank Equity Fund VIII, Limited Partnership; Acxiom Corporation; Charlesbank Equity Fund VIII, Limited Partnership.
20151116 | G | China National Chemical Corporation; Pirelli & C. S.p.A; China National Chemical Corporation.
20151117 | G | General Atlantic Partners 93, L.P.; Weston Presidio V, L.P.; General Atlantic Partners 93, L.P.
20151118 | G | Audax Private Equity Fund IV, LP; Cortec Group Fund IV, L.P.; Audax Private Equity Fund IV, LP.
20151122 | G | USAGM Topco, LLC; Partners Group Universal, LLC; USAGM Topco, LLC.
20151138 | G | GameStop Corp.; Geeknet, Inc.; GameStop Corp.
06/13/2015
20151119 | G | Arsenal Capital Partners III, LP; R. Richard Sargent; Arsenal Capital Partners III, LP.
06/15/2015
20151031 | G | Ciena Corporation; Cyan, Inc.; Ciena Corporation.
20151121 | G | Royal Dutch Shell plc; BG Group plc; Royal Dutch Shell plc.
20151123 | G | Parthenon Investors IV, L.P.; Sean S. Smith; Parthenon Investors IV, L.P.
20151126 | G | Capmark Financial Group Inc.; Orchard Brands Corporation; Capmark Financial Group Inc.
06/16/2015
20151032 | G | Nokia Corporation; Alcatel Lucent; Nokia Corporation.
20151037 | G | Trinity Health Corporation; Partners in Franciscan Ministries, Inc.; Trinity Health Corporation.
20151102 | G | Francisco Partners IV, L.P.; ShoreGroup, Inc.; Francisco Partners IV, L.P.
20151124 | G | USAGM Topco, LLC; Ira A. Lipman; USAGM Topco, LLC.
20151125 | G | Ferrellgas Partners, L.P.; Riverstone Global Energy and Power Fund V (FT), L.P.; Ferrellgas Partners, L.P.
06/17/2015
20151085 | G | Ascena Retail Group, Inc.; ANN Inc.; Ascena Retail Group, Inc.
20151130 | G | Genstar Capital Partners VI, L.P.; Great Hill Equity Partners IV, LP; Genstar Capital Partners VI, L.P.
20151131 | G | Burgundy Topco, Inc.; Andrew Ballester; Burgundy Topco, Inc.
20151132 | G | Burgundy Topco, Inc.; Brad Damphousse; Burgundy Topco, Inc.
06/18/2015
20151045 | G | Crown Castle International Corp.; Quanta Services, Inc.; Crown Castle International Corp.
06/19/2015
20150618 | G | SS&C Technologies Holdings, Inc.; Advent Software, Inc.; SS&C Technologies Holdings, Inc.
20151074 | G | Meijer Companies, Ltd.; BellHealth Investment Fund, L.P.; Meijer Companies, Ltd.
20151097 | G | H.I.G. Capital Partners V, L.P.; inome, Inc.; H.I.G. Capital Partners V, L.P.
20151133 | G | Francisco Partners IV, L.P.; ClickSoftware Technologies Ltd.; Francisco Partners IV, L.P.
20151134 | G | AMETEK, Inc.; Cognex Corporation; AMETEK, Inc.
20151136 | G | Big Jack Ultimate Holdings LP; Jacks Family Restaurants, Inc.; Big Jack Ultimate Holdings LP.
20151146 | G | Patrick Drahi; Cequel Corporation; Patrick Drahi.
20151147 | G | Permira V L.P. 2; Zeke Alenick; Permira V L.P. 2.
20151149 | G | Quest Credit Union; Educational Credit Union; Quest Credit Union.
20151152 | G | Apollo Investment Fund VIII, L.P.; OM Group, Inc.; Apollo Investment Fund VIII, L.P.
20151155 | G | GIP II Blue Holding Partnership, L.P.; Hess Corporation; GIP II Blue Holding Partnership, L.P.
20151156 | G | Cardinal Health, Inc.; Court Square Capital Partners II, L.P.; Cardinal Health, Inc.
20151162 | G | Steel Partners Holdings, L.P.; JPS Industries, Inc.; Steel Partners Holdings, L.P.
06/22/2015
20151127 | G | AmTrust Financial Services, Inc.; Wells Fargo & Co.; AmTrust Financial Services, Inc.
20151161 | G | Altura Credit Union; Visterra Credit Union; Altura Credit Union.
20151167 | G | Filtration Group Equity LLC; AB SKF; Filtration Group Equity LLC.
06/23/2015
20141024 | S | Zimmer Holdings, Inc.; LVB Acquisition Holding, LLC; Zimmer Holdings, Inc.
20151073 | G | Danaher Corporation; Pall Corporation; Danaher Corporation.
20151128 | G | Energy Trading Innovations LLC; Morgan Stanley; Energy Trading Innovations LLC.
20151159 | G | General Atlantic Partners AIV-1 B, L.P.; EN Engineering Holdings, LLC; General Atlantic Partners AIV-1 B, L.P.
20151163 | G | H&F Wand AIV I, L.P.; KAB Holding Company, LLC; H&F Wand AIV I, L.P.
20151165 | G | Comcast Corporation; FanDuel Ltd.; Comcast Corporation.
06/24/2015
20151143 | G | Sisters of Charity Health Systems, Inc.; Brighton Community Hospital Association; Sisters of Charity Health Systems, Inc.
06/25/2015
20150936 | G | New Mountain Partners IV, L.P.; IOD Incorporated; New Mountain Partners IV, L.P.
20151154 | G | Stock Building Supply Holdings, Inc.; Building Materials Holding Corporation; Stock Building Supply Holdings, Inc.
20151166 | G | The 2015 Bethel Family Dynasty Trust; Land O'Lakes, Inc.; The 2015 Bethel Family Dynasty Trust.
06/26/2015
20151115 | G | Johnson & Johnson; Achillion Pharmaceuticals, Inc.; Johnson & Johnson.
20151150 | G | Platform Specialty Products Corporation; OM Group, Inc.; Platform Specialty Products Corporation.
20151160 | G | Insight Venture Partners VII, L.P.; Udemy, Inc.; Insight Venture Partners VII, L.P.
20151173 | G | Onex Partners IV LP (“OP IV”); William C. Schumacher, M.D.; Onex Partners IV LP (“OP IV”).
20151174 | G | Vista Equity Partners Fund V, L.P.; EagleView Technology Corporation; Vista Equity Partners Fund V, L.P.
20151175 | G | Cardtronics, Inc.; Joseph C. Canizaro; Cardtronics, Inc.
20151184 | G | ABRY Senior Equity IV, L.P.; Refresh Dental Holdings, LLC; ABRY Senior Equity IV, L.P.
20151187 | G | Aisin Seiki Co., Ltd.; Shiroki Corporation (“Shiroki”); Aisin Seiki Co., Ltd.
06/29/2015
20150955 | G | LTS Group Holdings LLC; Fibertech Holdings Corp; LTS Group Holdings LLC.
20151179 | G | Newmont Mining Corporation; AngloGold Ashanti Limited; Newmont Mining Corporation.
20151208 | G | Terry Taylor; Theodore W. Russell; Terry Taylor.
06/30/2015
20151158 | G | RoundTable Healthcare Partners III, L.P.; J.H. Whitney VII, L.P.; RoundTable Healthcare Partners III, L.P.
20151188 | G | John Bragg; Salvatore Calvino; John Bragg.
20151191 | G | American Water Works Company, Inc.; Rex Energy Corporation; American Water Works Company, Inc.
20151198 | G | OCP Trust; KAG Holding Corp.; OCP Trust.
20151205 | G | Duke Energy Corporation; Sumitomo Corporation; Duke Energy Corporation.
07/01/2015
20151192 | G | OPKO Health, Inc.; Bio-Reference Laboratories, Inc.; OPKO Health, Inc.
20151193 | G | Marc D. Grodman M.D.; OPKO Health, Inc.; Marc D. Grodman M.D.
20151194 | G | Nordic Capital VII Beta, L.P.; Apollo HoldCo S.a.r.l.; Nordic Capital VII Beta, L.P.
20151204 | G | SoftBank Corp.; Social Finance, Inc.; SoftBank Corp.
07/02/2015
20151199 | G | The WhiteWave Foods Company; Charles Chang; The WhiteWave Foods Company.
07/06/2015
20151207 | G | Cheil Industries, Inc.; Samsung C & T Corporation; Cheil Industries, Inc.
20151213 | G | SK C&C Co., Ltd.; SK Holdings Co., Ltd.; SK C&C Co., Ltd.
20151221 | G | PBF Energy Inc.; Exxon Mobil Oil Corporation; PBF Energy Inc. 20151222 G PBF Energy Inc.; Petroleos de Venezuela S.A.; PBF Energy Inc.
20151228 | G | Community Health Systems, Inc.; Metropolitan Health Corporation; Community Health Systems, Inc.
07/07/2015
20151234 | G | KKR North America Fund XI, L.P.; Friedman Fleischer & Lowe Capital Parnters III, L.P.; KKR North America Fund XI, L.P.
07/08/2015
20151217 | G | 3M Company; KKR 2006 Fund (Overseas), Limited Partnership; 3M Company.
20151225 | G | Hill-Rom Holdings, Inc.; Welch Allyn Holdings, Inc.; Hill-Rom Holdings, Inc.
20151229 | G | JunHyuk Bang; SGN Games, Inc.; JunHyuk Bang.
07/10/2015
20151164 | G | Pamlico Capital III, L.P.; Michael C. McCullough; Pamlico Capital III, L.P.
20151196 | G | JANA Offshore Partners, Ltd.; ConAgra Foods, Inc.; JANA Offshore Partners, Ltd.
20151197 | G | JANA Nirvana Offshore Fund, Ltd.; ConAgra Foods, Inc.; JANA Nirvana Offshore Fund, Ltd.
20151201 | G | OCP Trust; ERM Worldwide Limited; OCP Trust.
20151202 | G | Todd L. Boehly; Guggenheim Capital, LLC; Todd L. Boehly.
20151239 | G | Mr. Florian Rehm; Sidney Frank Importing Company, Inc; Mr. Florian Rehm.
20151240 | G | Wayne Buyer Parent, L.P.; KKR North America Fund XI, L.P.; Wayne Buyer Parent, L.P.
20151242 | G | Sun Life Financial Inc.; Bentall Kennedy (U.S.) Limited Partnership; Sun Life Financial Inc.
20151251 | G | Arctic Slope Regional Corporation; Royce G. Roberts; Arctic Slope Regional Corporation.
20151253 | G | ProSiebenSat. 1 Media AG; GF Capital Private Equity Fund, LP; ProSiebenSat. 1 Media AG.
20151255 | G | NOW Inc.; Sondra Eoff; NOW Inc.
20151256 | G | Constellation Brands, Inc.; Copper Cane, LLC; Constellation Brands, Inc.
20151257 | G | Twenty-First Century Fox, Inc.; DraftKings, Inc.; Twenty-First Century Fox, Inc.
20151258 | G | Legrand S.A.; Raritan, Inc.; Legrand S.A.
20151266 | G | AMAG Pharmaceuticals, Inc.; GTCR Fund X/A LP; AMAG Pharmaceuticals, Inc.
20151267 | G | LetterOne Holdings S.A.; Altaris Health Partners II, L.P.; LetterOne Holdings S.A.
07/13/2015
20151177 | G | Elliott Associates, L.P.; Citrix Systems, Inc.; Elliott Associates, L.P.
20151178 | G | Elliott International Limited; Citrix Systems, Inc.; Elliott International Limited.
20151209 | G | Baxalta Incorporated; Sigma-Tau Finanziaria, S.p.A.; Baxalta Incorporated.
07/14/2015
20151260 | G | Vista Equity Partners Fund V, L.P.; Michael Donovan; Vista Equity Partners Fund V, L.P.
20151271 | G | SLP IV Castle Feeder I, L.P.; Centerstage Investments, L.L.C.; SLP IV Castle Feeder I, L.P.
07/15/2015
20150361 | G | Joseph M. & Marie H. Field; Lincoln National Corporation; Joseph M. & Marie H. Field
20151077 | G | International Consolidated Airlines Group, S.A.; Aer Lingus Group plc; International Consolidated Airlines Group, S.A.
20151236 | G | Welsh, Carson, Anderson & Stowe X, L.P.; Control Group Ventures, LLC; Welsh, Carson, Anderson & Stowe X, L.P.
20151237 | G | Control Group Ventures, LLC; Welsh, Carson, Anderson & Stowe X, L.P.; Control Group Ventures, LLC.
20151270 | G | Darren Soerodimoeljo Soetantyo; Paine & Partners Capital Fund III AIV, L.P.; Darren Soerodimoeljo Soetantyo.
07/16/2015
20151273 | G | Stifel Financial Corp.; Barclays PLC; Stifel Financial Corp.
07/17/2015
20151285 | G | XIO Fund I LP; Lumenis Ltd.; XIO Fund I LP.
20151287 | G | Legacy Reserves LP; Anadarko Petroleum Corporation; Legacy Reserves LP.
20151288 | G | Martha Stewart; Sequential Brands Group, Inc.; Martha Stewart.
20151289 | G | Sequential Brands Group, Inc.; Martha Stewart; Sequential Brands Group, Inc.
20151290 | G | Charlesbank Equity Fund VII, Limited Partnership; CIC III LP; Charlesbank Equity Fund VII, Limited Partnership.
20151291 | G | West First Management Corp.; Somerset Tire Service, Inc.; West First Management Corp.
20151294 | G | PWP Growth Equity Fund I LP; WWS Acquisition, LLC; PWP Growth Equity Fund I LP.
20151305 | G | Partners Group Client Access 13 L.P.; KUE U.S. LLC; Partners Group Client Access 13 L.P.
07/20/2015
20151211 | G | Vista Equity Partners Fund V, L.P.; Pearson plc; Vista Equity Partners Fund V, L.P.
20151295 | G | Madison Dearborn Capital Partners VII-A, L.P.; Patterson Companies, Inc.; Madison Dearborn Capital Partners VII-A, L.P.
20151312 | G | Golden Gate Capital Opportunity Fund, L.P.; Greenbriar Equity Fund II, L.P.; Golden Gate Capital Opportunity Fund, L.P.
07/21/2015
20151252 | G | Alliance Resource Partners, L.P.; Mr. Christopher James; Alliance Resource Partners, L.P.
20151259 | G | Unilever N.V.; Raymond L. and Jane D. Wurmand; Unilever N.V.
20151262 | G | Novartis AG; Spinifex Pharmaceuticals, Inc.; Novartis AG 20151265 G Unilever N.V.; Wurwand Family Income Trust; Unilever N.V.
20151296 | G | Element Financial Corporation; General Electric Co.; Element Financial Corporation.
20151301 | G | FourPoint Holdings, LLC; Chesapeake Energy Corporation; FourPoint Holdings, LLC.
20151303 | G | EGI-AM Investments, L.L.C.; Welsh, Carson, Anderson & Stowe IX, L.P.; EGI-AM Investments, L.L.C.
20151311 | G | New Enterprise Associates 13, Limited Partnership; Blue Jeans Network, Inc.; New Enterprise Associates 13, Limited Partnership.
20151314 | G | Unilever N.V.; Howard Murad; Unilever N.V.
20151315 | G | Apax VIII-B, L.P.; Hestia B.V.; Apax VIII-B, L.P.
07/23/2015
20151283 | G | KRIM Biopharma Inc.; GlaxoSmithKline plc; KRIM Biopharma Inc.
20151298 | G | American United Mutual Insurance Holding Company; Bank of Montreal (Canada); American United Mutual Insurance Holding Company.
07/24/2015
20151280 | G | Allergan Plc; KYTHERA Biopharmaceuticals, Inc.; Allergan Plc.
20151306 | G | Tulig LLC; Behrman PEP L.P.; Tulig LLC.
20151319 | G | Adolf Wurth GmbH & Co. KG; Salvatore A. Longo; Adolf Wurth GmbH & Co. KG.
20151321 | G | Wendel SA; Blackstone RGIS Capital Partners V L.P.; Wendel SA.
20151323 | G | CHS Inc.; PICO Holdings, Inc.; CHS Inc.
20151326 | G | Centerbridge Capital Partners III, L.P.; KCP Investment Holdings L.P.; Centerbridge Capital Partners III, L.P.
20151329 | G | Precision Castparts Corp.; AIPCF V AIV A LP; Precision Castparts Corp.
20151342 | G | WPX Energy, Inc.; RKI Exploration & Production, LLC; WPX Energy, Inc.
20151344 | G | ALJ Regional Holdings Inc.; Visant Holding Corp.; ALJ Regional Holdings Inc.
07/27/2015
20151313 | G | Land O' Lakes, Inc; United Suppliers, Inc.; Land O' Lakes, Inc.
20151316 | G | HLS Therapeutics Inc.; Novartis AG; HLS Therapeutics Inc.
20151348 | G | PPG Industries, Inc.; Michael S. McCracken; PPG Industries, Inc.
07/28/2015
20151269 | G | Boston Scientific Corporation; Endo International plc; Boston Scientific Corporation.
20151308 | G | Independence Health Group, Inc.; Prestige Health Choice LLC; Independence Health Group, Inc.
20151310 | G | GuideWell Mutual Holding Corporation; Prestige Health Choice LLC; GuideWell Mutual Holding Corporation.
20151338 | G | Amadeus IT Holding, S.A.; Accenture plc; Amadeus IT Holding, S.A.
20151339 | G | Deutsche Telekom AG; Verizon Communications Inc.; Deutsche Telekom AG.
20151340 | G | Verizon Communications; Deutsche Telekom AG; Verizon Communications.
07/30/2015
20151317 | G | Jarden Corporation; Olympus Growth Fund V, L.P.; Jarden Corporation.
20151360 | G | Medtronic Public Limited Company; RF Surgical Systems, Inc.; Medtronic Public Limited Company.
07/31/2015
20151279 | G | Adage Capital Partners, L.P.; Advaxis, Inc.; Adage Capital Partners, L.P.
20151297 | G | Celgene Corporation; Juno Therapeutics, Inc.; Celgene Corporation.
20151335 | G | iPipeline Holdings, Inc.; iPipeline, Inc.; iPipeline Holdings, Inc.
20151336 | G | Tokio Marine Holdings, Inc.; HCC Insurance Holdings, Inc.; Tokio Marine Holdings, Inc.
20151345 | G | Allergan Plc; Oculeve, Inc.; Allergan Plc.
20151347 | G | Intel Corporation; Mirantis, Inc.; Intel Corporation.
20151355 | G | Navitas Midstream Partners, LLC; Phillips 66; Navitas Midstream Partners, LLC.
20151356 | G | Navitas Midstream Partners, LLC; Spectra Energy Corp.; Navitas Midstream Partners, LLC.
08/04/2015
20151307 | G | Blackstone Capital Partners VI L.P.; Parthenon Investors III, L.P (“Parthenon III”); Blackstone Capital Partners VI L.P.
20151357 | G | Fibemi NV; Adam B. Firestone; Fibemi NV.
20151358 | G | McCormick & Company, Incorporated; One World Foods, Inc.; McCormick & Company, Incorporated.
20151362 | G | Waud Capital Partners QP III, L.P.; Joel H. Sharenow; Waud Capital Partners QP III, L.P.
20151363 | G | Waud Capital Partners QP III, L.P.; Melvin Feiler; Waud Capital Partners QP III, L.P.
20151364 | G | Lincoln Topco PTE Limited; Friedrich von Metzler; Lincoln Topco PTE Limited.
20151370 | G | Lincoln Topco PTE Limited; Porsche Automobil Holding SE; Lincoln Topco PTE Limited.
20151371 | G | SunCoke Energy, Inc.; Mr. Christopher Cline; SunCoke Energy, Inc.
20151372 | G | Anixter International Inc.; HD Supply Holdings, Inc.; Anixter International Inc.
08/05/2015
20151327 | G | CA, Inc.; ArrowPath Fund II LP; CA, Inc.
08/07/2015
20151203 | G | HealthSouth Corporation; Nautic Partners VI, L.P.; HealthSouth Corporation.
20151330 | G | Alert Holding Company, Inc.; Wells Fargo & Company; Alert Holding Company, Inc.
20151377 | G | Kainos Capital Partners, L.P.; Arlon Food and Agriculture Partners LP; Kainos Capital Partners, L.P.
20151378 | G | Nestle S. A.; SPC Partners IV, L.P.; Nestle S. A.
20151380 | G | BlackBerry Limited; AtHoc Inc.; BlackBerry Limited.
20151382 | G | Autoliv, Inc.; M/A-COM Technology Solutions Holdings, Inc.; Autoliv, Inc.
20151383 | G | The Home Depot, Inc.; Interline Brands, Inc.; The Home Depot, Inc.
20151384 | G | Medical Properties Trust, Inc.; GTCR Fund VIII, L.P.; Medical Properties Trust, Inc.
20151387 | G | Welsh Carson Anderson & Stowe XII, L.P.; Emerus Hospital Partners, LLC; Welsh Carson Anderson & Stowe XII, L.P.
20151391 | G | Kelso Hammer Co-Investment, L.P.; BlackEagle Partners Fund, L.P.; Kelso Hammer Co-Investment, L.P.
20151396 | G | Sterling Investment Partners III, L.P.; Snowman Holdings, LLC; Sterling Investment Partners III, L.P.
20151397 | G | Turgay Ciner; OCI Company Ltd. (“OCI Korea”); Turgay Ciner.
20151398 | G | First Financial Bancorp.; AG Private Equity Partners IV, L.P.; First Financial Bancorp.
20151399 | Y | ABRY Partners VIII, L.P.; 1A Smart Start, Inc.; ABRY Partners VIII, L.P.
20151401 | G | Dolphin Holdco, L.P.; GTCR Fund X/A LP; Dolphin Holdco, L.P.
20151403 | G | TransDigm Group Incorporated; PneuDraulics, Inc.; TransDigm Group Incorporated.
20151418 | G | Beacon Roofing Supply, Inc.; Clayton Dubilier & Rice Fund VIII, LP; Beacon Roofing Supply, Inc.
20151420 | G | Clayton Dubilier & Rice Fund VIII, L.P.; Beacon Roofing Supply, Inc.; Clayton Dubilier & Rice Fund VIII, L.P.
08/10/2015
20151325 | G | Edwards Lifesciences Corporation; CardiAQ Valve Technologies, Inc.; Edwards Lifesciences Corporation.
20151407 | G | K-VA-T Food Stores, Inc.; Lone Star Fund V (U.S.), L.P.; K-VA-T Food Stores, Inc.
08/11/2015
20151328 | G | Sierra Pacific Industries; Murray Pacific Corporation; Sierra Pacific Industries.
20151346 | G | Centene Corporation; Health Net, Inc.; Centene Corporation.
20151412 | G | New Mountain Partners IV, L.P.; Paxton Jevnick; New Mountain Partners IV, L.P.
20151415 | G | Calpine Corporation; James R. Crane; Calpine Corporation.
20151416 | G | Corning Incorporated; Gerresheimer AG; Corning Incorporated.
20151419 | G | United Parcel Service, Inc.; Warburg Pincus Private Equity X, L.P.; United Parcel Service, Inc.
08/12/2015
20151353 | G | KOUS Holdings, Inc.; OHI Parent, Inc.; KOUS Holdings, Inc.
20151365 | G | Third Point Ultra, Ltd.; Yum! Brands, Inc.; Third Point Ultra, Ltd.
20151366 | G | Third Point Reinsurance Ltd.; Yum! Brands, Inc.; Third Point Reinsurance Ltd.
20151367 | G | Third Point Partners Qualified L.P.; Yum! Brands, Inc.; Third Point Partners Qualified L.P.
20151368 | G | Third Point Offshore Fund, Ltd.; Yum! Brands, Inc.; Third Point Offshore Fund, Ltd.
20151373 | G | BorgWarner Corp; Remy International, Inc.; BorgWarner Corp.
20151395 | G | Stericycle, Inc.; Boost Holdings LP; Stericycle, Inc.
20151411 | G | Quincy Newspapers, Inc.; Silver Point Capital Fund, L.P.; Quincy Newspapers, Inc.
08/13/2015
20151369 | G | Biogen Inc.; Eisai Co., Ltd.; Biogen Inc.
20151400 | G | SunEdison, Inc.; Blackstone Capital Partners VI, L.P.; SunEdison, Inc.
08/14/2015
20151206 | G | Matthews International Corporation; Aurora Products Group LLC; Matthews International Corporation.
08/17/2015
20151379 | G | Allergan plc; Merck & Co., Inc.; Allergan plc.
20151385 | G | GKN plc; London Acquisition LuxCo S.A.r.l.; GKN plc.
20151426 | G | Gerresheimer AG; Montagu IV LP; Gerresheimer AG.
20151427 | G | Premier Healthcare Alliance, L.P.; Lloyd Myers; Premier Healthcare Alliance, L.P.
20151434 | G | LSPFI S.A.S. LLC; Matthew J. Murphy; LSPFI S.A.S. LLC.
20151435 | G | LSPFI S.A.S. LLC; Gregory A. Westfall; LSPFI S.A.S. LLC.
20151444 | G | NextEra Energy, Inc.; ArcLight Energy Partners Fund III, LP; NextEra Energy, Inc.
20151447 | G | China Minsheng Investment Co., Ltd.; White Mountains Insurance Group, Ltd.; China Minsheng Investment Co., Ltd.
20151448 | G | BDT Capital Partners Annex Fund, L.P.; ALH Holding Inc.; BDT Capital Partners Annex Fund, L.P.
20151449 | G | BDT Capital Partners Fund II (INT), L.P.; ALH Holding Inc.; BDT Capital Partners Fund II (INT), L.P.
20151450 | G | BDT Capital Partners Fund II-X, L.P.; ALH Holding Inc.; BDT Capital Partners Fund II-X, L.P.
20151454 | G | RLC Industries Co.; SierraPine; RLC Industries Co.
20151458 | G | Tom Gores; PSE Holding, LLC; Tom Gores.
08/18/2015
20151437 | G | SunOpta, Inc.; Paine & Partners Capital Fund III, L.P.; SunOpta, Inc.
20151461 | G | Black Hills Corporation; General Electric Company; Black Hills Corporation.
08/20/2015
20151456 | G | Kaistar Lighting (Xiamen) Co., Ltd.; Bridgelux, Inc.; Kaistar Lighting (Xiamen) Co., Ltd.
08/21/2015
20150724 | S | Pfizer Inc.; Hospira, Inc.; Pfizer Inc.
20151404 | G | Marathon Petroleum Corp.; MarkWest Energy Partners, L.P.; Marathon Petroleum Corp.
20151408 | G | Macquarie Group Limited; Pocahontas Parkway Holdings, LLC (“PPH”); Macquarie Group Limited.
20151433 | G | Value Act Capital Master Fund, L.P.; Rolls-Royce Holdings, plc; Value Act Capital Master Fund, L.P.
20151465 | G | The Timken Company; AIPCF V AIV C LP; The Timken Company.
20151474 | G | Allergan plc; Naurex Inc.; Allergan plc.
20151486 | G | Onex TSG/HPP Holdings Corp.; Beecken Petty O'Keefe Fund III, L.P.; Onex TSG/HPP Holdings Corp.
20151487 | G | Raycom Media, Inc.; Lawton Cablevision, Inc.; Raycom Media, Inc.
20151494 | G | Onex Partners IV LP; Onex TSG/HPP Holdings Corp.; Onex Partners IV LP.
20151495 | G | Gerald W. Schwartz; Onex TSG/HPP Holdings Corp.; Gerald W. Schwartz.
20151496 | G | Levine Leichtman Capital Partners V, L.P.; Monte Nido Holdings, LLC; Levine Leichtman Capital Partners V, L.P.
20151509 | G | ArcLight Energy Partners Fund VI, L.P.; Infigen Energy Limited; ArcLight Energy Partners Fund VI, L.P.
20151510 | G | Levine Leichtman Capital Partners V, L.P.; TACH Holdings, Inc.; Levine Leichtman Capital Partners V, L.P.
20151520 | G | Kainos Capital Partners, L.P.; SCP PQM FO LLC; Kainos Capital Partners, L.P.
20151522 | G | Cardinal Health, Inc.; NaviHealth Group Holdings, L.P.; Cardinal Health, Inc.
20151525 | G | AstraZeneca PLC; Amgen Inc.; AstraZeneca PLC.
20151530 | G | Silver Lake Partners IV, L.P.; Michael G. Rubin; Silver Lake Partners IV, L.P.
08/24/2015
20151376 | G | Kissner Co-Investment Holdings LP; Peter E. Powell; Kissner Co-Investment Holdings LP.
20151513 | G | Giovanni Agnelli e C.S. a.p.az.; PartnerRe Ltd.; Giovanni Agnelli e C.S. a.p.az.
20151519 | G | Heaven Hill Distilleries, Inc.; DE Spirits LLC; Heaven Hill Distilleries, Inc.
08/25/2015
20151479 | G | Yahoo! Inc.; Polyvore Inc.; Yahoo! Inc.
20151503 | G | The WhiteWave Foods Company; Jerry Chou; The WhiteWave Foods Company.
20151516 | G | Accel-KKR Capital Partners IV, LP; Motor Vehicle Software Corporation; Accel-KKR Capital Partners IV, LP.
20151517 | G | Jones Lang LaSalle Incorporated; David A. Williams; Jones Lang LaSalle Incorporated.
20151518 | G | Jones Lang LaSalle Incorporated; Kevin Filter; Jones Lang LaSalle Incorporated.
20151526 | G | Pentair plc; ERICO Global Company; Pentair plc.
08/26/2015
20151406 | G | Ascension Health Alliance; Crittenton Hospital Medical Center; Ascension Health Alliance.
20151441 | G | Blue Eagle Holdings, L.P.; eBay Inc.; Blue Eagle Holdings, L.P.
20151442 | G | Permira V L.P.2; eBay Inc.; Permira V L.P.2.
20151475 | G | Riverside Capital Appreciation Fund VI, L.P.; Pfingsten Partners Fund IV, L.P.; Riverside Capital Appreciation Fund VI, L.P.
20151505 | G | Tufts Associated Health Maintenance Organization, Inc.; Peterson Partners VI, L.P.; Tufts Associated Health Maintenance Organization, Inc.
20151511 | G | Marlin Equity IV, L.P.; Automatic Data Processing, Inc.; Marlin Equity IV, L.P.
20151514 | G | Jonathan Oringer; Shutterstock, Inc.; Jonathan Oringer.
20151528 | G | AstraZeneca PLC; Nadine & Samuel Wohlstadter; AstraZeneca PLC.
20151531 | G | MSouth Equity Partners II, L.P.; Milestone Partners III, L.P.; MSouth Equity Partners II, L.P.
08/27/2015
20151392 | G | Platform Specialty Products Corporation; Alent plc; Platform Specialty Products Corporation.
20151429 | G | Tenet Healthcare Corporation; Brookwood Baptist Health 2, LLC; Tenet Healthcare Corporation.
20151452 | G | Elliott Associates, L.P.; XPO Logistics, Inc.; Elliott Associates, L.P.
20151457 | G | Carl C. Icahn; Cheniere Energy, Inc.; Carl C. Icahn.
20151490 | G | 40 North Latitude Fund LP; Mattress Firm Holding Corp.; 40 North Latitude Fund LP.
20151491 | G | 40 North Latitude Fund LP; Cadence Design Systems, Inc.; 40 North Latitude Fund LP.
20151500 | G | Samuel Zell; Anixter International Inc.; Samuel Zell.
20151512 | G | Wolters Kluwer N.V.; Housatonic Equity Partners, L.P.; Wolters Kluwer N.V.
08/28/2015
20151421 | G | Technicolor S.A.; Cisco System, Inc.; Technicolor S.A.
20151422 | G | Stock Building Supply Holdings, Inc.; Robert Bowden, Inc.; Stock Building Supply Holdings, Inc.
20151535 | G | Trian Partners, L.P.; Sysco Corporation; Trian Partners, L.P.
20151536 | G | Trian Star Trust; Sysco Corporation; Trian Star Trust.
20151537 | G | Alpha Media Holdings LLC; Garrison Opportunity Fund II A LLC; Alpha Media Holdings LLC.
20151538 | G | Trian Partners Co-Investment Opportunities Fund, LLC; Sysco Corporation; Trian Partners Co-Investment Opportunities Fund, LLC.
20151541 | G | Trian SPV XI, L.P.; Sysco Corporation; Trian SPV XI, L.P.
20151543 | G | Thomas H. Lee Parallel (Cayman) Fund VII; Altaris Health Partners II, LP; Thomas H. Lee Parallel (Cayman) Fund VII.
20151544 | G | SNCF Participations; Welsh, Carson, Anderson & Stowe X, L.P.; SNCF Participations.
20151546 | G | Golden Gate Capital Opportunity Fund, L.P.; GT Nexus, Inc.; Golden Gate Capital Opportunity Fund, L.P.
20151578 | G | Gray Television, Inc.; The Gazette Company; Gray Television, Inc.
09/01/2015
20151502 | G | There Holding B.V.; Nokia Corporation; There Holding B.V.
20151504 | G | OceanaGold Corporation; Romarco Minerals Inc.; OceanaGold Corporation.
20151521 | G | Yik-Chun Koo Wang; Crestview Partners II (Outbound), L.P.; Yik-Chun Koo Wang.
20151545 | G | Markit Ltd.; CoreOne Technologies Holdings, LLC; Markit Ltd.
20151547 | G | Nikkei Inc.; Pearson PLC; Nikkei Inc.
20151548 | G | TPG Partners VII, L.P.; Sophia AIV I, L.P.; TPG Partners VII, L.P.
20151554 | G | Providence Equity Partners VII-A L.P.; Chime Communications plc; Providence Equity Partners VII-A L.P.
20151556 | G | International Business Machines Corporation; Merge Healthcare Incorporated; International Business Machines Corporation.
20151575 | G | Teodor Gelov; Johnson & Johnson; Teodor Gelov.
20151577 | G | NN, Inc.; PEP Industries LLC; NN, Inc.
20151580 | G | East Kentucky Power Cooperative, Inc.; LS Power Equity Partners II, L.P.; East Kentucky Power Cooperative, Inc.
20151581 | G | GenNx360 Capital Partners II, L.P.; Sentinel Capital Partners III, L.P.; GenNx360 Capital Partners II, L.P.
09/02/2015
20151534 | G | AEA Investors Fund V LP; MS Ventures, LLC; AEA Investors Fund V LP.
20151552 | G | Fidelity National Information Services, Inc.; SunGard; Fidelity National Information Services, Inc.
20151559 | G | WestRock Company; Avenue Special Situations Fund V, L.P.; WestRock Company.
20151584 | G | DigiCert Parent, Inc.; TA XI L.P.; DigiCert Parent, Inc.
09/03/2015
20151443 | G | H.I.G. Middle Market LBO Fund II, L.P.; HSystems Holdings, L.P.; H.I.G. Middle Market LBO Fund II, L.P.
20151553 | G | BCP CC Holdings, L.P.; Arnhold and S. Bleichroeder Holdings, Inc.; BCP CC Holdings, L.P.
20151558 | G | Flowers Foods, Inc.; AVB, Inc.; Flowers Foods, Inc.
20151583 | G | Blackdog Topco Holdings, L.P.; Charlesbank Equity Fund VII, Limited Partnership; Blackdog Topco Holdings, L.P.
09/04/2015
20151446 | G | Teachers Insurance Company and Annuity Association of Americ; Talen Energy Corporation; Teachers Insurance Company and Annuity Association of Americ.
20151476 | G | Russell Goldsmith; Royal Bank of Canada; Russell Goldsmith.
20151555 | G | Dominion Resources, Inc.; Iroquois Gas Transmission System, L.P.; Dominion Resources, Inc.
20151585 | G | Carlyle Partners VI Cayman, L.P.; Symantec Corporation; Carlyle Partners VI Cayman, L.P.
20151586 | G | Levine Leichtman Capital Partners V, L.P.; Halifax Capital Partners III, L.P.; Levine Leichtman Capital Partners V, L.P.
20151588 | G | James A. Perdue; LNK Partners, L.P.; James A. Perdue.
20151592 | G | Lagardere SCA; FS Equity Partners VI, L.P.; Lagardere SCA.
20151595 | G | Mueller Industries, Inc.; Tecumseh Products Company; Mueller Industries, Inc.
20151599 | G | Xerox Corporation; Rocco Salviola; Xerox Corporation.
20151602 | G | Ares Corporate Opportunities Fund IV, L.P.; New Mountain Partners III, L.P.; Ares Corporate Opportunities Fund IV, L.P.
20151603 | G | SCI Associates LLC; Quad-C Partners VII, L.P.; SCI Associates LLC.
20151618 | G | Imperial Parking Corporation; Revocable Trust No. 2 of James C. Berry (deceased); Imperial Parking Corporation.
20151631 | G | Emi Stefani; Gregory P. Santaga; Emi Stefani.
09/08/2015
20151532 | G | Team Health Holdings, Inc.; IPC Healthcare, Inc.; Team Health Holdings, Inc.
20151539 | G | Mallinckrodt plc; Gores Capital Partners III, L.P.; Mallinckrodt plc.
20151550 | G | MAG Mutual Insurance Company; COPIC Trust; MAG Mutual Insurance Company.
20151625 | G | Lincolnshire Equity Fund IV-A, L.P.; Hot Rod Brands Holdings, LLC; Lincolnshire Equity Fund IV-A, L.P.
20151628 | G | GenNx360 Capital Partners II, L.P.; Kirtland Capital Partners IV, L.P.; GenNx360 Capital Partners II, L.P.
09/09/2015
20151527 | G | Berry Plastics Group, Inc.; Avintiv Inc.; Berry Plastics Group, Inc.
20151589 | G | Teays River Investments, LLC; The Dow Chemical Company; Teays River Investments, LLC.
20151613 | G | Blackbaud, Inc.; Smart Tuition Holdings, LLC; Blackbaud, Inc.
20151644 | G | American Infrastructure MLP Fund II, L.P.; Flagship Marinas Acquisition, LLC; American Infrastructure MLP Fund II, L.P.
09/10/2015
20151551 | G | Delphi Automotive PLC; Hellermann Tyton Group PLC; Delphi Automotive PLC.
09/14/2015
20151507 | G | Computer Sciences Corporation; Fruition Partners, Inc.; Computer Sciences Corporation.
20151549 | G | Johnson & Johnson; Alligator Bioscience AB; Johnson & Johnson.
20151610 | G | Qualcomm Incorporated; Rob Lobban; Qualcomm Incorporated.
20151624 | G | Thomas A. Potter; Patriot Coal Corporation; Thomas A. Potter.
20151632 | G | Carlyle U.S. Equity Opportunity Fund, L.P.; Blyth, Inc.; Carlyle U.S. Equity Opportunity Fund, L.P.
20151635 | G | Liberty Interactive Corporation; Mark Vadon; Liberty Interactive Corporation.
20151637 | G | Mark Vadon; Liberty Interactive Corporation; Mark Vadon.
20151639 | G | Darrell Cavens; Liberty Interactive Corporation; Darrell Cavens.
20151641 | G | Sycamore Partners II, L.P.; Belk, Inc.; Sycamore Partners II, L.P.
20151642 | G | Vista Foundation Fund II, L.P.; Spectrum Equity Investors V, L.P.; Vista Foundation Fund II, L.P.
20151643 | G | Medtronic Public Limited Company; Twelve, Inc.; Medtronic Public Limited Company.
20151645 | G | Mr. Remi Marcoux; Mr. Eli Blatt; Mr. Remi Marcoux.
20151648 | G | Greenbriar Equity Fund III, L.P.; Transource, LLC; Greenbriar Equity Fund III, L.P.
20151649 | G | Envestnet, Inc.; Yodlee, Inc.; Envestnet, Inc.
20151650 | G | Apax VIII-B, L.P.; Amalco; Apax VIII-B, L.P.
20151655 | G | Luciano Achille Luigi Berti; Emerson Electric Co.; Luciano Achille Luigi Berti.
20151656 | G | CP7 International AIV, L.P.; Steiner Leisure Limited; CP7 International AIV, L.P.
20151658 | G | Riverside Micro-Cap Fund III, L.P.; Experian plc; Riverside Micro-Cap Fund III, L.P.
20151660 | G | Flextronics International Ltd.; NEXTracker, Inc.; Flextronics International Ltd.
20151661 | G | Progressive Waste Solutions, Ltd.; CWR Holdings, LLC; Progressive Waste Solutions, Ltd.
20151668 | G | Alliance Data Systems Corporation; Toyota Motor Corporation; Alliance Data Systems Corporation.
20151669 | G | Audax Private Equity Fund IV, L.P.; Tenex Capital Partners, L.P.; Audax Private Equity Fund IV, L.P.
09/15/2015
20151604 | G | Meiji Yasuda Life Insurance Company; StanCorp Financial Group, Inc.; Meiji Yasuda Life Insurance Company.
20151605 | G | LSF9 Stardust Holdings, LP; Cretex Companies, Inc.; LSF9 Stardust Holdings, LP.
20151678 | G | SS&C Technologies Holdings, Inc.; Citigroup Inc.; SS&C Technologies Holdings, Inc.
09/16/2015
20151597 | G | Kerry Group plc; TSG5 L.P.; Kerry Group plc.
20151600 | G | St. Joseph Health System; Providence Ministries; St. Joseph Health System.
20151630 | G | Providence Ministries; St. Joseph Health System; Providence Ministries.
20151638 | G | Quanex Building Products Corporation; Olympus Growth Fund IV, L.P.; Quanex Building Products Corporation.
20151663 | G | MedeAnalytics Parent, Inc.; MedeAnalytics, Inc.; MedeAnalytics Parent, Inc.
20151667 | G | TA XI L.P.; Vista Foundation Fund I, L.P.; TA XI L.P.
20151674 | G | Kelso Investment Associates IX, L.P.; Thoma Cressey Fund VIII, L.P.; Kelso Investment Associates IX, L.P.
09/17/2015
20151562 | G | Meggitt PLC; Cobham plc; Meggitt PLC.
20151665 | G | Leyard Optoelectronic Co., Ltd.; Planar Systems, Inc.; Leyard Optoelectronic Co., Ltd.
20151670 | G | Alan B. Miller; Second Universe Trust; Alan B. Miller.
09/18/2015
20150652 | G | Expedia, Inc.; Orbitz Worldwide, Inc.; Expedia, Inc.
20151601 | G | Mr. Li Li and Mrs. Li Tan; Cytovance Biologics, Inc.; Mr. Li Li and Mrs. Li Tan.
20151654 | G | XL Group PLC; Mary Christine Smith; XL Group PLC.
20151677 | G | Irving Place Capital Partners III SPV, L.P.; OTC Holding LLC; Irving Place Capital Partners III SPV, L.P.
20151683 | G | Maxum Enterprises LLC; Newco, LLC; Maxum Enterprises LLC.
20151684 | G | Seven & i Holdings Co., Ltd.; Mr. & Mrs. Carlos Fontecilla; Seven & i Holdings Co., Ltd.
20151685 | G | Seven & i Holdings Co., Ltd.; Mr. Ramiro Ortiz Mayorga; Seven & i Holdings Co., Ltd.
20151686 | G | Seven & i Holdings Co., Ltd.; Mr. & Mrs. Arturo Zizold; Seven & i Holdings Co., Ltd.
20151687 | G | j2 Global, Inc.; Hewlett-Packard Company; j2 Global, Inc.
20151688 | G | Margaret W. Molleston; Encana Corporation; Margaret W. Molleston.
20151689 | G | George H. Bishop; Encana Corporation; George H. Bishop.
20151690 | G | Olympus Growth Fund VI, L.P.; Sterling Group Partners III, L.P.; Olympus Growth Fund VI, L.P.
20151691 | G | Wang Jianlin; Providence Equity Partners VI L.P.; Wang Jianlin.
20151695 | G | FMI Associates, L.L.C.; Strommen Holdings Inc.; FMI Associates, L.L.C.
20151698 | G | ITT Corporation; Wynnchurch Capital Partners III, L.P.; ITT Corporation.
20151700 | G | American Infrastructure MLP Fund II, L.P.; CNL Lifestyle Properties, Inc.; American Infrastructure MLP Fund II, L.P.
20151702 | G | Glencore plc; Felda Global Ventures Holdings Berhad; Glencore plc.
20151706 | G | AIM Ag Infra, LP; NGP Natural Resources X, L.P.; AIM Ag Infra, LP.
20151709 | G | Silver Lake Partners II, L.P.; Fidelity National Information Services, Inc.; Silver Lake Partners II, L.P.
20151710 | G | Blackstone Capital Partners IV L.P.; Fidelity National Information Services, Inc.; Blackstone Capital Partners IV L.P.
09/21/2015
20151617 | G | AbbVie Inc.; United Therapeutics Corporation; AbbVie Inc.
20151627 | G | Raptor Pharmaceuticals Corp.; Tripex Pharmaceuticals, LLC; Raptor Pharmaceuticals Corp.
09/22/2015
20150556 | G | General Electric Company; Alstom S.A.; General Electric Company.
20150557 | G | Alstom S.A.; General Electric Company; Alstom S.A.
20151591 | G | Shenandoah Telecommunications Company; NTELOS Holdings Corp.; Shenandoah Telecommunications Company.
20151594 | G | Softbank Group Corp.; Shenandoah Telecommunications Company; Softbank Group Corp.
20151614 | G | Valeant Pharmaceuticals International, Inc.; Sprout Pharmaceuticals, Inc.; Valeant Pharmaceuticals International, Inc.
20151664 | G | KKR Asian Fund II Japan AIV L.P.; Bayer AG; KKR Asian Fund II Japan AIV L.P.
20151666 | G | Amicus Therapeutics, Inc.; Scioderm, Inc.; Amicus Therapeutics, Inc.
20151701 | G | JLL Partners Fund VII, L.P.; ATS Parent Co., Inc.; JLL Partners Fund VII, L.P.
20151713 | G | Group 1 Automotive, Inc.; Garlyn O. Shelton 2005 Trust; Group 1 Automotive, Inc.
20151714 | G | Group 1 Automotive, Inc.; Faye LaJuan Shelton 2005 Trust; Group 1 Automotive, Inc.
09/24/2015
20151195 | S | Endo International plc; TPG Partners VI, LP; Endo International plc.
20151626 | G | Carlyle Partners VI, L.P.; Arlington Capital Partners II, L.P.; Carlyle Partners VI, L.P.
20151676 | G | Hexagon AB; EcoSys Management LLC; Hexagon AB.
20151718 | G | William H. Gates III; OCI N.V.; William H. Gates III.
09/25/2015
20151620 | G | LCP VIII (AIV I), L.P.; Johnson Controls Inc.; LCP VIII (AIV I), L.P.
20151720 | G | General Atlantic Partners 93, L.P.; Avant, Inc.; General Atlantic Partners 93, L.P.
20151721 | G | Berkshire Fund VIII, L.P.; American Capital Equity III, LP; Berkshire Fund VIII, L.P.
20151722 | G | ABRY Partners VIII, L.P.; Altaris Health Partners II, L.P.; ABRY Partners VIII, L.P.
20151725 | G | Devon Energy Corporation; Matador Resources Company; Devon Energy Corporation.
20151727 | G | FC Trident, LLC; Sentinel Capital Partners IV, L.P.; FC Trident, LLC.
20151738 | G | XPO Logistics, Inc.; Con-way Inc.; XPO Logistics, Inc.
20151755 | G | ArcLight Energy Partners Fund VI, L.P.; HOVENSA L.L.C.; ArcLight Energy Partners Fund VI, L.P.
09/28/2015
20151697 | G | Sumitomo Life Insurance Company; Symetra Financial Corporation; Sumitomo Life Insurance Company.
20151715 | G | Sanchez Production Partners LP; Sanchez Energy Corporation; Sanchez Production Partners LP.
20151732 | G | Dot Foods, Inc.; Grabber Construction Products, Inc. Employee Stock Option; Dot Foods, Inc.
20151736 | G | Flowers Foods, Inc.; Todd C. and Andrea C. Wood; Flowers Foods, Inc.
20151748 | G | LCP VIII (AIV I), L.P.; Clearview Capital Fund II L.P.; LCP VIII (AIV I), L.P.
09/29/2015
20150271 | S | Tornier N.V.; Wright Medical Group, Inc.; Tornier N.V.
20151728 | G | C.L. de Carvalho-Heineken; LBC Founders LLC; C.L. de Carvalho-Heineken.
20151731 | G | Verizon Communication Inc.; Millennial Media, Inc.; Verizon Communication Inc.
09/30/2015
20151200 | G | Cox Family Voting Trust u/a/d 7/26/13; Dealertrack Technologies, Inc.; Cox Family Voting Trust u/a/d 7/26/13.
20151410 | G | ACE Limited; The Chubb Corporation; ACE Limited.
20151729 | G | Diane M. Hendricks; Compagnie De Saint-Gobain; Diane M. Hendricks.

FOR FURTHER INFORMATION CONTACT: Theresa Kingsberry, Program Support Specialist, Federal Trade Commission Premerger Notification Office, Bureau of Competition, Room CC-5301, Washington, DC 20024, (202) 326-3100.

By direction of the Commission.
Donald S. Clark,
Secretary.

[FR Doc. 2015-27992 Filed 11-2-15; 8:45 am]

BILLING CODE 6750-01-P